DEPARTMENT OF COMMERCE

International Trade Administration

[C-428-817]

Certain Cut-to-Length Carbon Steel Plate From Germany; Preliminary Results of Countervailing Duty Administrative Reviews

AGENCY: Import Administration, International Trade Administration, Department of Commerce.

ACTION: Notice of preliminary results of countervailing duty administrative reviews.

SUMMARY: The Department of Commerce (the Department) is conducting administrative reviews of the countervailing duty order on certain cut-to-length carbon steel plate from Germany for the periods calendar year 1997 and calendar year 1998. For information on the net subsidy for the reviewed companies, as well as for all non-reviewed companies, please see the “Preliminary Results of Review” section of this notice. If the final results remain the same as these preliminary results of administrative review, we will instruct the U.S. Customs Service (Customs) to assess countervailing duties as detailed in the “Preliminary Results of Review” section of this notice. Interested parties are invited to comment on these preliminary results.

EFFECTIVE DATE: September 8, 2000.

FOR FURTHER INFORMATION CONTACT: Michael Grossman, AD/CVD Enforcement, Office VI, Group II, Import Administration, International Trade Administration, U.S. Department of Commerce, 14th Street and Constitution Avenue, N.W., Washington, D.C. 20230; telephone: (202) 482-3146 or (202) 482-2786.

SUPPLEMENTARY INFORMATION:

Background

On August 17, 1993, the Department published in the Federal Register the countervailing duty order on certain cut-to-length carbon steel plate from Germany. See Countervailing Duty Orders and Amendment to Final Affirmative Countervailing Duty Determinations: Certain Steel Products From Germany (58 FR 43765). On August 11, 1998, the Department published a notice of “Opportunity to Request Administrative Review” (63 FR 42821) of this countervailing duty order for the period covering calendar year 1997. We received a timely request for a review and a request that this review be deferred for a year under section 351.213(c) of the Department's regulations. On October 29, 1998, the Department deferred that administrative review for one year (63 FR 58009). On August 11, 1999, the Department published a notice of “Opportunity to Request Administrative Review” (64 FR 43649) of this countervailing duty order for the period calendar year 1998. We received a timely request for a review, and, on October 1, 1999, the Department published a notice of initiation of administrative review of the countervailing duty order on certain cut-to-length carbon steel plate from Germany, covering the period January 1, 1998, through December 31, 1998 (64 FR 53318).

In accordance with 19 CFR 351.213(b), these reviews cover only those producers or exporters of the subject merchandise for which reviews were specifically requested. Novosteel SA requested these reviews, however, it is only an exporter. Novosteel SA stated that all of the subject merchandise it exported is produced by Reiner Brach GmbH and Co. KG. Therefore, questionnaire responses were required from the producer. Accordingly, these reviews cover exporter Novosteel SA and producer Reiner Brach GmbH and Co. KG. We received timely allegations of additional subsidies, including allegations of upstream subsidies. We initiated examinations of three of these alleged subsidy programs and determined not to initiate examinations of the alleged upstream subsidy programs. See memorandum to Melissa G. Skinner, Director, Office of AD/CVD Enforcement VI, from Team, entitled 1997 and 1998 Administrative Reviews of the Countervailing Duty Order on Certain Cut-to-Length Carbon Steel Plate from Germany: Memorandum Regarding Affiliation, Cross-ownership, Upstream Subsidy Allegations, and Other Subsidy Allegations, dated August 23, 2000. (This memorandum is on file in public version form in the public file room of room B-099 of the main Commerce building.) These reviews cover 39 programs.

On April 11, 2000, we extended the period for completion of the preliminary results pursuant to section 751(a)(3) of the Tariff Act of 1930, as amended (the Act). See Certain Cut-to-Length Carbon Steel Plate From Germany: Extension of Time Limit for Preliminary Results of Countervailing Duty Administrative Reviews (65 FR 19740). Therefore, the deadline for these preliminary results was extended to no later than August 30, 2000. The deadline for the final results of these reviews is no later than 120 days from the date on which these preliminary results are published in the Federal Register.

Applicable Statute

Unless otherwise indicated, all citations to the statute are references to the provisions of the Act, as amended by the Uruguay Round Agreements Act (URAA) effective January 1, 1995. The Department is conducting these administrative reviews in accordance with section 751(a) of the Act. All citations to the Department's regulations reference 19 CFR Part 351, unless otherwise indicated.

Scope of the Review

The merchandise subject to these reviews includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the HTSUS under item numbers (7208.40.3030), (7208.40.3060), (7208.51.0030), (7208.51.0045), (7208.51.0060), (7208.52.0000), (7208.53.0000), (7208.90.0000), (7210.70.3000), (7210.90.9000), (7211.13.0000), (7211.14.0030), (7211.14.0045), (7211.90.0000), (7212.40.1000), (7212.40.5000), (7212.50.0000). Included in these reviews are flat-rolled products of non-rectangular cross-section where such cross-section is achieved subsequent to the rolling process (i.e., products which have been “worked after rolling”)—for example, products which have been beveled or rounded at the edges. Excluded from these reviews is grade X-70 plate. Also excluded from these reviews is certain carbon cut-to-length steel plate with a maximum thickness of 80 mm in steel grades BS 7191, 355 EM, and 355 EMZ, as amended by Sable Offshore Energy Project specification XB MOO Y 15 0001, types 1 and 2.

Analysis of Programs

Programs Preliminarily Determined To Be Not Used

We examined the following programs and preliminarily determine, based on the questionnaire responses, that the producer and/or exporter of the subject merchandise did not apply for or receive benefits under these programs during the periods of review:

1. Capital Investment Grants.

2. Investment Premium Act.

3. Joint Scheme: Improvement of Regional Economic Structure—GA Investment. Grants and Other GA Subsidies.

4. Ruhr District Action Program.

5. Aid for Closure of Steel Operations.

6. Joint Program: Upswing East.

7. Freight Programs under the Special Subsidies for Companies in the Zonal Border Area.

8. Loan Guarantees under Treuhandanstalt Subsidies.

9. Long-term Loans from the Kreditanstalt fur Wiederaufbau (KfW).

10. Tax Programs under Special Subsidies for Companies in the Zonal Border Area.

11. Structural Improvement Aids.

12. ECSC Article 54 Loans.

13. ECSC Article 54 Interest Rebates.

14. ECSC Redeployment Aid Under Article 56(2)(b).

15. ECSC Article 54 Loans.

16. ECSC Article 54 Interest Rebates.

17. Loans with Reduced Interest Rates under the Steel Restructuring Plan.

18. Federal and State Government Loan Guarantees under the Steel Restructuring Plan.

19. Special Ruhr Plan.

20. Zukunftsinitiative Montaregionen (ZIM).

21. Kreditanstalt fur Wiederaufbau (KfW) Investment Loans for Eastern Germany.

22. Deutsche Ausglechsbank Investment Loans for Eastern Germany.

23. European Recovery Program Loans for Eastern Germany.

24. Loan Guarantee Program Loans for Eastern Germany.

25. Peine-Salzgitter Profit Transfer Agreement and Other Operation Loss Subsidies.

26. Elimination of Duisburg Harbor Tolls.

27. Export Credits at Preferential Rates.

28. Miscellaneous Tax Subsidies.

29. Loans from the Government of Nordrhein-Westphalen.

30. Tax Subsidies for Eastern Germany.

31. European Investment Bank Loans and Loan Guarantees.

32. New Community Instrument Loans.

33. European Regional Development Fund Aid.

34. Nordrhein-Westphalen's Air Pollution Control Program.

35. ECSC Article 54 Loan Guarantees.

36. ECSC Article 56 Conversion Loans.

Preliminary Results of Review

As noted above, we have initiated examinations of three programs as a result of timely additional allegations of subsidy programs. These alleged subsidy programs are:

1. European Social Funds Grants

2. Assistance Measures for the Companies within the Steel Industry to Partially Compensate for Costs of the Social Plans

3. Social Aid for the Workers in the Coal and Steel Industries

Novosteel SA and Reiner Brach GmbH & Co. have stated in questionnaire responses that Novosteel SA and Reiner Brach GmbH and Co. KG have not received assistance by participating in any of the 36 above-listed programs, or by participating in any other government program. Nonetheless, we intend to issue questionnaires regarding the additional alleged subsidy programs in order to confirm non-use of these programs.

In accordance with 19 CFR 351.221(b)(4)(i), we calculated an individual subsidy rate for the producer/exporter subject to these administrative reviews. For the periods calendar year 1997 and calendar year 1998, we preliminarily determine the net subsidy for Novosteel SA/Reiner Brach GmbH and Co. KG to be 0.00 percent ad valorem.

As provided for in the Act and 19 CFR 351.106(c)(1), any rate less than 0.5 percent ad valorem in an administrative review is de minimis. Accordingly, pursuant to 19 CFR 351.106(c)(2), if the final results of these reviews remain the same as these preliminary results, the Department intends to instruct Customs to liquidate, without regard to countervailing duties, shipments of the subject merchandise from Novosteel SA produced by Reiner Brach GmbH and Co. KG, exported on or after January 1, 1997 through December 31, 1997 and January 1, 1998 through December 31, 1998. Also, the cash deposits required for these companies will be zero.

Because the URAA replaced the general rule in favor of a country-wide rate with a general rule in favor of individual rates for investigated and reviewed companies, the procedures for establishing countervailing duty rates, including those for non-reviewed companies, are now essentially the same as those in antidumping cases, except as provided for in section 777A(e)(2)(B) of the Act. The requested review will normally cover only those companies specifically named. See 19 CFR 351.213(b). Pursuant to 19 CFR 351.212(c), for all companies for which a review was not requested, duties must be assessed at the cash deposit rate, and cash deposits must continue to be collected, at the rate previously ordered. As such, the countervailing duty cash deposit rate applicable to a company can no longer change, except pursuant to a request for a review of that company. See Federal-Mogul Corporation and The Torrington Company v. United States, 822 F.Supp. 782 (CIT 1993) and Floral Trade Council v. United States, 822 F.Supp. 766 (CIT 1993) (interpreting 19 CFR 353.22(e), the prior antidumping regulation on automatic assessment, which was identical to 19 CFR 355.22(g)). Therefore, the cash deposit rates for all companies except those covered by this review will be unchanged by the results of this review.

We will instruct Customs to continue to collect cash deposits for non-reviewed companies at the most recent company-specific or country-wide rate applicable to the company. Accordingly, the cash deposit rates that will be applied to non-reviewed companies covered by this order will be the rate for that company established in the most recently completed administrative proceeding conducted under the URAA. If such a review has not been conducted, the rate established in the most recently completed administrative proceeding pursuant to the statutory provisions that were in effect prior to the URAA amendments is applicable. See Final Affirmative Countervailing Duty Determinations: Certain Steel Products from Germany, 58 FR 37315 (July 9, 1993). These rates shall apply to all non-reviewed companies until a review of a company assigned these rates is requested. In addition, for the periods calendar year 1997 and calendar year 1998, the assessment rates applicable to all non-reviewed companies covered by this order are the cash deposit rates in effect at the time of entry.

Public Comment

Pursuant to 19 CFR 351.309, interested parties may submit written comments in response to these preliminary results. Written comments must be submitted separately for each of these two reviews. Case briefs must be submitted within 30 days after the date of publication of this notice, and rebuttal briefs, limited to arguments raised in case briefs, must be submitted no later than five days after the time limit for filing case briefs. Parties who submit argument in this proceeding are requested to submit with the argument: (1) a statement of the issue, and (2) a brief summary of the argument. Parties submitting case and/or rebuttal briefs are requested to provide the Department copies of the public version on a disk. Case and rebuttal briefs must be served on interested parties in accordance with 19 CFR 351.303(f). Also, pursuant to 19 CFR 351.310, within 30 days of the date of publication of this notice, interested parties may request a public hearing on arguments to be raised in the case and rebuttal briefs. Unless the Secretary specifies otherwise, the hearing, if requested, will be held two days after the date for submission of rebuttal briefs, that is, thirty-seven days after the date of publication of these preliminary results.

Representatives of parties to the proceeding may request disclosure of proprietary information under administrative protective order no later than 10 days after the representative's client or employer becomes a party to the proceeding, but in no event later than the date the case briefs, under 19 CFR 351.309(c)(ii), are due. The Department will publish the final results of these administrative reviews, including the results of its analysis of issues raised in any case or rebuttal brief or at a hearing.

These administrative reviews and notice are issued and published in accordance with sections 751(a)(1) and 777(i)(1) of the Act (19 U.S.C. 1675(a)(1) and 19 U.S.C. 1677f(i)(1).

Dated: August 30, 2000.
Troy H. Cribb,
Acting Assistant Secretary for Import Administration.

[FR Doc. 00-23122 Filed 9-7-00; 8:45 am]

BILLING CODE 3510-DS-P